DEPARTMENT OF ENERGY

Office of Energy Efficiency and Renewable Energy

[Case No. CAC-031]

Energy Conservation Program for Certain Commercial and Industrial Equipment: Decision and Order Granting a Waiver to Carrier Corporation From the Department of Energy Commercial Package Air Conditioner and Heat Pump Test Procedures

AGENCY: Office of Energy Efficiency and Renewable Energy, Department of Energy.

ACTION: Decision and Order.

SUMMARY: This notice publishes the U.S. Department of Energy's (DOE) Decision and Order in Case No. CAC-031, which grants Carrier Corporation (Carrier) a waiver from the existing DOE test procedures applicable to commercial package air-source central air conditioners and heat pumps. The waiver is specific to the Carrier Super Modular Multi-System (SMMSi) variable refrigerant flow (VRF) multi-split commercial heat pumps. As a condition of this waiver, Carrier must use the alternate test procedure set forth in this notice to test and rate its SMMSi VRF multi-split commercial heat pumps.

DATES: This Decision and Order is effective June 2, 2011.

FOR FURTHER INFORMATION CONTACT: Dr. Michael G. Raymond, U.S. Department of Energy, Building Technologies Program, Mailstop EE-2J, 1000 Independence Avenue, SW., Washington, DC 20585-0121. Telephone: (202) 586-9611. E-mail: Michael.Raymond@ee.doe.gov.

Ms. Elizabeth Kohl, U.S. Department of Energy, Office of General Counsel, Mail Stop GC-71, 1000 Independence Avenue, SW., Washington, DC 20585-0103, (202) 586-7796; E-mail: Elizabeth.Kohl@hq.doe.gov.

SUPPLEMENTARY INFORMATION: In accordance with Title 10 of the Code of Federal Regulations (10 CFR) 431.401(f)(4), DOE provides notice of the issuance of the Decision and Order set forth below. In this Decision and Order, DOE grants Carrier a waiver from the existing DOE commercial package air conditioner and heat pump test procedures for its SMMSi VRF multi-split products. Carrier must use the alternate test procedure provided in this notice (American National Standards Institute/Air-Conditioning, Heating and Refrigeration Institute (ANSI/AHRI) Standard 1230-2010, “Performance Rating of Variable Refrigerant Flow (VRF) Multi-Split Air-Conditioning and Heat Pump Equipment”) to test and rate the specified models from its SMMSi VRF multi-split commercial heat pumps identified below. The cooling capacities of Carrier's SMMSi VRF multi-split heat pumps at issue in the waiver petition filed by Carrier range from 72,000 Btu/h to 220,000 Btu/h. All of this equipment is covered by ANSI/AHRI Standard 1230-2010, which includes units with capacities from 12,000 Btu/h to 300,000 Btu/h.

Today's decision prohibits Carrier from making any representations concerning the energy efficiency of these products unless the product has been tested consistent with the provisions and restrictions in the alternate test procedure set forth in the Decision and Order below, and the representations fairly disclose the test results. (42 U.S.C. 6314(d)) Distributors, retailers, and private labelers are held to the same standard when making representations regarding the energy efficiency of these products. Id.

Issued in Washington, DC, on May 26, 2011.
Kathleen Hogan,
Deputy Assistant Secretary for Energy Efficiency, Office of Technology Development, Energy Efficiency and Renewable Energy.

Decision and Order

In the Matter of: Carrier Corporation (Carrier) (Case No. CAC-031).

Background

Title III, Part C of the Energy Policy and Conservation Act of 1975 (EPCA), Pub. L. 94-163 (42 U.S.C. 6311-6317, as codified) established the Energy Conservation Program for Certain Industrial Equipment, a program covering certain industrial equipment, which includes the SMMSi VRF commercial multi-split heat pumps that are the focus of this notice.¹ Part C specifically includes definitions (42 U.S.C. 6311), test procedures (42 U.S.C. 6314), labeling provisions (42 U.S.C. 6315), energy conservation standards (42 U.S.C 6313), and the authority to require information and reports from manufacturers. 42 U.S.C. 6316. With respect to test procedures, Part C authorizes the Secretary of Energy (the Secretary) to prescribe test procedures that are reasonably designed to produce results that measure energy efficiency, energy use, and estimated annual operating costs, and that are not unduly burdensome to conduct. (42 U.S.C. 6314(a)(2))

¹ For editorial reasons, upon codification in the U.S. Code, Part C was re-designated Part A-1.

For commercial package air-conditioning and heating equipment, EPCA provides that “the test procedures shall be those generally accepted industry testing procedures or rating procedures developed or recognized by the Air-Conditioning and Refrigeration Institute [ARI] or by the American Society of Heating, Refrigerating and Air-Conditioning Engineers [ASHRAE], as referenced in ASHRAE/IES Standard 90.1 and in effect on June 30, 1992.” (42 U.S.C. 6314(a)(4)(A)) Under 42 U.S.C. 6314(a)(4)(B), the statute further directs the Secretary to amend the test procedure for a covered commercial product if the industry test procedure is amended, unless the Secretary determines, by rule and based on clear and convincing evidence, that such a modified test procedure does not meet the statutory criteria set forth in 42 U.S.C. 6314(a)(2) and (3).

On December 8, 2006, DOE published a final rule adopting test procedures for commercial package air-conditioning and heating equipment, effective January 8, 2007. 71 FR 71340. For commercial air-source heat pumps, DOE adopted ARI Standard 340/360-2004. Table 1 to Title 10 of the Code of Federal Regulations (10 CFR) 431.96 directs manufacturers of commercial package air conditioning and heating equipment to use the appropriate procedure when measuring energy efficiency of those products. The cooling capacities of Carrier's SMMSi VRF multi-split heat pumps in its waiver petition range from 72,000 Btu/h to 220,000 Btu/h. The current test procedure for this equipment is ARI Standard 340/360-2004, which includes units with capacities greater than 65,000 Btu/hour.

DOE's regulations for covered products permit a person to seek a waiver from the test procedure requirements for covered commercial equipment if at least one of the following conditions is met: (1) The petitioner's basic model contains one or more design characteristics that prevent testing according to the prescribed test procedures; or (2) the prescribed test procedures may evaluate the basic model in a manner so unrepresentative of its true energy consumption as to provide materially inaccurate comparative data. 10 CFR 431.401(a)(1). Petitioners must include in their petition any alternate test procedures known to the petitioner to evaluate the basic model in a manner representative of its energy consumption. 10 CFR 431.401(b)(1)(iii). The Assistant Secretary for Energy Efficiency and Renewable Energy (Assistant Secretary) may grant a waiver subject to conditions, including adherence to alternate test procedures. 10 CFR 431.401(f)(4). Waivers remain in effect pursuant to the provisions of 10 CFR 431.401(g).

The waiver process also permits parties submitting a petition for waiver to file an application for interim waiver of the applicable test procedure requirements. 10 CFR 431.401(a)(2). The Assistant Secretary will grant an interim waiver request if it is determined that the applicant will experience economic hardship if the application for interim waiver is denied, if it appears likely that the petition for waiver will be granted, and/or the Assistant Secretary determines that it would be desirable for public policy reasons to grant immediate relief pending a determination on the petition for waiver. 10 CFR 431.401(e)(3). An interim waiver remains in effect for 180 days or until DOE issues its determination on the petition for waiver, whichever occurs first. It may be extended by DOE for an additional 180 days. 10 CFR 431.401(e)(4).

On February 16, 2011, Carrier filed a petition for waiver from the test procedure at 10 CFR 431.96 applicable to commercial package air source central air conditioners and heat pumps, as well as an application for interim waiver. The capacities of Carrier's SMMSi VRF multi-split heat pumps range from 72,000 Btu/h to 220,000 Btu/h. The applicable test procedure for commercial air-source heat pumps is ARI 340/360-2004. Manufacturers are directed to use these test procedures pursuant to Table 1 of 10 CFR 431.96.

Carrier seeks a waiver from the applicable test procedures under 10 CFR 431.96 on the grounds that its SMMSi VRF multi-split heat pumps contain design characteristics that prevent testing according to the current DOE test procedures. Specifically, Carrier asserts that the two primary factors that prevent testing of its multi-split variable speed products are the same factors stated in the waivers that DOE granted to Mitsubishi Electric & Electronics USA, Inc. (Mitsubishi) and other manufacturers for similar lines of commercial multi-split air-conditioning systems:

• Testing laboratories cannot test products with so many indoor units; and

• There are too many possible combinations of indoor and outdoor units to test. See, e.g., 72 FR 17528 (April 9, 2007) (Mitsubishi); 76 FR 19069 (April 6, 2011) (Carrier); 76 FR 19078 (April 6, 2011) (Mitsubishi).

On April 8, 2011, DOE published Carrier's petition for waiver in the Federal Register, seeking public comment pursuant to 10 CFR 431.401(b)(1)(iv), and granted the application for interim waiver. 76 FR 19759. DOE received one comment on the Carrier petition, from Carrier, requesting the adoption of ANSI/AHRI 1230-2010 as the alternate test procedure.

Assertions and Determinations

Carrier's Petition for Waiver

Carrier seeks a waiver from the DOE test procedures for this product class on the grounds that its SMMSi VRF multi-split commercial heat pumps contain design characteristics that prevent them from being tested using the current DOE test procedures. As stated above, Carrier asserts that the two primary factors that prevent testing of multi-split variable speed products are the same factors stated in the waivers that DOE granted to Mitsubishi, Fujitsu General Ltd. (Fujitsu), Samsung Air Conditioning (Samsung), Daikin, Sanyo, and LG for similar lines of commercial multi-split air-conditioning systems: (1) Testing laboratories cannot test products with so many indoor units; and (2) there are too many possible combinations of indoor and outdoor unit to test.

The SMMSi systems have operational characteristics similar to the commercial multi-split products manufactured by Mitsubishi, Samsung, LG, Sanyo, Fujitsu and Daikin. As indicated above, DOE has already granted waivers for these products. The SMMSi system consists of multiple indoor units connected to an air-cooled outdoor unit. The indoor units for these products are available in a number of potential configurations, including the following: 4-way cassette, compact 4-way cassette, high-wall, slim ducted, medium static ducted, high static ducted, and ceiling. There are 7 unique outdoor models and 43 unique indoor models. A single outdoor model can be connected to up to 38 indoor units. According to Carrier, the various indoor and outdoor models can be connected in a multitude of configurations, with many thousands of possible combinations. Consequently, Carrier requested that DOE grant a waiver from the applicable test procedures for its SMMSi product designs until a suitable test method can be prescribed.

In responses to two petitions for waiver from Mitsubishi, DOE specified an alternate test procedure to provide a basis upon which Mitsubishi could test and make valid energy efficiency representations for its R410A CITY MULTI equipment, as well as for its R22 multi-split equipment. Alternate test procedures related to the Mitsubishi petitions were published in the Federal Register on April 9, 2007. See 72 FR 17528 and 72 FR 17533. The Carrier SMMSi VRF systems have operational characteristics similar to the commercial multi-split products manufactured by Mitsubishi, Samsung, Fujitsu, Daikin, LG, and Sanyo. DOE has granted waivers for these products with a similar alternate test procedure prescribed for Mitsubishi. For reasons similar to those published in these prior notices, DOE believes that an alternate test procedure is appropriate in this instance.

We note that after DOE granted a waiver for Mitsubishi's R22 multi-split products, ARI formed a committee to discuss testing issues and to develop a testing protocol for variable refrigerant flow systems. The committee has developed a test procedure which has been adopted by the Air-Conditioning, Heating and Refrigeration Institute (AHRI) and the “American National Standards Institute (ANSI), ANSI/AHRI 1230—2010: Performance Rating of Variable Refrigerant Flow (VRF) Multi-Split Air-Conditioning and Heat Pump Equipment.” This test procedure has been incorporated into ASHRAE 90.1—2010. DOE is currently assessing AHRI 1230-2010, with respect to the requirements for test procedures specified by EPCA (42 U.S.C. 6314(a)(4)(B)), and will provide a preliminary determination regarding those test procedures in a future notice of proposed rulemaking.

Carrier's petition proposed that DOE apply ANSI/AHRI Standard 1230-2010 as the alternate test procedure to apply to its SMMSi VRF multi-split heat pump equipment as a condition of its requested waiver. As stated above, the only comment received by DOE regarding the Carrier petition was from Carrier, requesting the adoption of ANSI/AHRI 1230-2010 as the alternate test procedure. The alternate test procedure in the commercial multi-split waivers that DOE granted to Mitsubishi and the other manufacturers listed above is similar to ANSI/AHRI 1230-2010.

DOE issues today's Decision and Order granting Carrier a test procedure waiver for its commercial SMMSi VRF multi-split heat pumps. As a condition of this waiver, Carrier must use ANSI/AHRI 1230-2010 as the alternate test procedure.

Alternate Test Procedure

The alternate test procedure prescribed by DOE in earlier multi-split waivers, including the interim waiver granted to Carrier in response to the current petition, consisted of a definition of a “tested combination” and a prescription for representations. ANSI/AHRI 1230-2010 also includes a definition of “tested combination,” and the two definitions are identical in all relevant respects.

The earlier alternate test procedure provides for efficiency rating of a non-tested combination in one of two ways: (1) At an energy efficiency level determined using a DOE-approved alternative rating method; or (2) at the efficiency level of the tested combination utilizing the same outdoor unit. ANSI/AHRI 1230-2010 requires an additional test and in this respect is similar to the residential test procedure set forth in 10 CFR part 430, subpart B, appendix M. Multi-split manufacturers must test two or more combinations of indoor units with each outdoor unit. The first system combination is tested using only non-ducted indoor units that meet the definition of a tested combination. The rating given to any untested multi-split system combination having the same outdoor unit and all non-ducted indoor units is set equal to the rating of the tested system having all non-ducted indoor units. The second system combination is tested using only ducted indoor units that meet the definition of a tested combination. The rating given to any untested multi-split system combination having the same outdoor unit and all ducted indoor units is set equal to the rating of the tested system having all ducted indoor units. The rating given to any untested multi-split system combination having the same outdoor unit and a mix of non-ducted and ducted indoor units is set equal to the average of the ratings for the two required tested combinations.

With regard to the laboratory testing of commercial products, some of the difficulties associated with the existing test procedure are avoided by the alternate test procedure's requirements for choosing the indoor units to be used in the manufacturer-specified tested combination. For example, in addition to limiting the number of indoor units, another requirement is that all the indoor units must be subjected the same minimum external static pressure. This requirement enables the test lab to manifold the outlets from each indoor unit into a common plenum that supplies air to a single airflow measuring apparatus. This eliminates situations in which some of the indoor units are ducted and some are non-ducted. Without this requirement, the laboratory must evaluate the capacity of a subgroup of indoor coils separately and then sum the separate capacities to obtain the overall system capacity. Measuring capacity in this way would require that the test laboratory be equipped with multiple airflow measuring apparatuses. It is unlikely that any test laboratory would be equipped with the necessary number of such apparatuses. Alternatively, the test laboratory could connect its one airflow measuring apparatus to one or more common indoor units until the contribution of each indoor unit had been measured. However, that approach would be so time-consuming as to be impractical.

For the reasons discussed above, DOE believes Carrier's SMMSi VRF multi-split heat pumps cannot be tested using the procedure prescribed in 10 CFR 431.96 (ARI Standard 340/360-2004) and incorporated by reference in DOE's regulations at 10 CFR 431.95(b)(2)-(3). After careful consideration, DOE has decided to prescribe ANSI/AHRI 1230-2010 as the alternate test procedure for Carrier's commercial multi-split products.

Consultations With Other Agencies

DOE consulted with the Federal Trade Commission (FTC) staff concerning the Carrier petition for waiver. The FTC staff did not have any objections to issuing a waiver to Carrier.

Conclusion

After careful consideration of all the materials submitted by Carrier, the absence of any comments, and consultation with the FTC staff, it is ordered that:

(1) The petition for waiver filed by Carrier (Case No. CAC-031) is hereby granted as set forth in the paragraphs below.

(2) Carrier shall not be required to test or rate its SMMSi VRF multi-split heat pump models listed below on the basis of the test procedures cited in 10 CFR 431.96, specifically ARI Standard 340/360-2004 (incorporated by reference in 10 CFR 431.95(b)(2-3)). Instead, it shall be required to test and rate such products according to the alternate test procedure as set forth in paragraph (3).

Standard model outdoor units:

MMY-MAP0724HT9UL, with a capacity of 72,000 Btu/hr

MMY-MAP0964HT9UL, with a capacity of 96,000 Btu/hr

MMY-MAP1144HT9UL, with a capacity of 114,000 Btu/hr

MMY-AP1444HT9UL, with a capacity of 144,000 Btu/hr

MMY-AP1684HT9UL, with a capacity of 168,000 Btu/hr

MMY-AP1924HT9UL, with a capacity of 192,000 Btu/hr

MMY-AP2284HT9UL, with a capacity of 220,000 Btu/hr

Indoor units, whose capacities range from 7,000 to 48,000 Btu/hr that are compatible with the outdoor units listed above:

4-way cassette

MMU-AP0182H2UL, MMU-AP0212H2UL, MMU-AP0242H2UL, MMU-AP0302H2UL, MMU-AP0362H2UL, and MMU-AP0422H2UL

Compact 4-way cassette

MMU-AP0071MH2UL, MMU-AP0091MH2UL, MMU-AP0121MH2UL, MMU-AP0151MH2UL, and MMU-AP0181MH2UL

Ceiling

MMC-AP0181H2UL, MMC-AP0241H2UL, MMC-AP0361H2UL, and MMC-AP0421H2UL

High-wall

MMK-AP0073H2UL, MMK-AP0093H2UL, MMK-AP0123H2UL, MMK-AP0153H2UL, MMK-AP0183H2UL, and MMK-AP0243H2UL

Slim ducted

MMD-AP0071SPH2UL, MMD-AP0091SPH2UL, MMD-AP0121SPH2UL, MMD-AP0151SPH2UL, and MMD-AP0181SPH2UL

Medium static ducted

MMD-AP0071BH2UL, MMD-AP0091BH2UL, MMD-AP0121BH2UL, MMD-AP0151BH2UL, MMD-AP0181BH2UL, MMD-AP0211BH2UL, MMD-AP0241BH2UL, MMD-AP0301BH2UL, MMD-AP0361BH2UL, MMD-AP0421BH2UL, and MMD-AP0481BH2UL

High static ducted

MMD-AP0151H2UL, MMD-AP0181H2UL, MMD-AP0241H2UL, MMD-AP0301H2UL, MMD-AP0361H2UL, and MMD-AP0481H2UL

(3) Alternate test procedure. Carrier is not required to test the products listed in paragraph (2) above according to the test procedure for commercial package air conditioners and heat pumps prescribed by DOE at 10 CFR 431.96 (ARI Standard 340/360-2004 (incorporated by reference in 10 CFR 431.95(b)(2)-(3)), but instead shall use the alternate test procedure ANSI/AHRI 1230-2010.

(4) This waiver shall remain in effect from the date this Decision and Order is issued, consistent with the provisions of 10 CFR 431.401(g).

(5) This waiver is issued on the condition that the statements, representations, and documentary materials provided by the petitioner are valid. DOE may revoke or modify the waiver at any time if it determines that the factual basis underlying the petition for waiver is incorrect, or the results from the alternate test procedure are unrepresentative of the basic models' true energy consumption characteristics.

(6) This waiver applies only to those basic models set out in Carrier's petition for waiver. Grant of this waiver does not release a petitioner from the certification requirements set forth at 10 CFR part 429.

Issued in Washington, DC, on May 26, 2011.
Kathleen B. Hogan,
Deputy Assistant Secretary, Energy Efficiency and Renewable Energy.

[FR Doc. 2011-13654 Filed 6-1-11; 8:45 am]

BILLING CODE 6450-01-P